DEPARTMENT OF TRANSPORTATION

Office of the Secretary

Application of Multi-Aero, Inc. d/b/a Air Choice One for Commuter Air Carrier Authorization

AGENCY: Department of Transportation.

ACTION: Notice of Order to Show Cause (Order 2008-1-2) Docket DOT-OST-2002-12417.

SUMMARY: The Department of Transportation is directing all interested persons to show cause why it should not issue an order finding Multi-Aero, Inc. d/b/a Air Choice One fit, willing, and able, and awarding it commuter air carrier authorization to engage in scheduled passenger air transportation as a commuter air carrier.

DATES: Persons wishing to file objections should do so no later than January 22, 2008.

ADDRESSES: Objections and answers to objections should be filed in Docket DOT-OST-2002-12417 and addressed to Docket Operations, (M-30, Room W12-140), U.S. Department of Transportation, 1200 New Jersey Avenue, SE., Washington, DC 20590, and should be served upon the parties listed in Attachment A to the order.

FOR FURTHER INFORMATION CONTACT: Ronâle Taylor, Air Carrier Fitness Division (X-56, Room W86-464), U.S. Department of Transportation, 1200 New Jersey Avenue, SE., Washington, DC 20590, (202) 366-9721.

Dated: January 9, 2008.
Michael W. Reynolds,
Deputy Assistant Secretary for Aviation and International Affairs.

[FR Doc. E8-527 Filed 1-14-08; 8:45 am]

BILLING CODE 4910-9X-P